DEPARTMENT OF DEFENSE

Department of the Army

Privacy Act of 1974; System of Records

AGENCY: Department of the Army, DoD.

ACTION: Notice to delete and amend systems of records.

SUMMARY: The department of the Army is proposing to delete a system of records notice from its existing inventory of records systems subject to the Privacy Act of 1974, (5 U.S.C. 552a), as amended.

In addition, the Army is amending the system identifier for A0600-8-104b, Military Personnel Records Jacket (NGB) last published on November 4, 1999, at 64 FR 60177, to read A0600-8-104b NGB, same system name.

DATES: This proposed action will be effective without further notice on February 26, 2001, unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711.

SUPPLEMENTARY INFORMATION: The department of the Army systems of records notices subject to the Privacy Act of 1974, (5 U.S.C. 552a), as amended, have been published in the Federal Register and are available from the address above.

The specific changes to the records systems being amended are set forth below followed by the notice, as amended, published in its entirety. The proposed amendments are not within the purview of subsection (r) of the Privacy Act of 1974, (5 U.S.C. 552a), as amended, which requires the submission of a new or altered system report.

Dated: January 19, 2001.
L.M. Bynum,
Alternate OSD Federal Register Liaison Officer, Department of Defense.

Deletion

A0640-10 ARPC

System name:

Philippine Army Files (December 23, 1997, 62 FR 67055).

Reason:

Records are now covered under the Army's Privacy Act notice A0600-8-104b TAPC, Official Military Personnel Records.

Amendment

A0600-8-104b

System name:

Military Personnel Records Jacket (NGB) (November 4, 1999, 64 FR 60177)

Changes:

System identifier:

Delete entry and replace with “A0600-8-104b NGB”.

* * * * *

[FR Doc. 01-2278 Filed 1-24-01; 8:45 am]

BILLING CODE 5001-10-M